NATIONAL SCIENCE FOUNDATION

Agency Information Collection Activities: Comment Request

AGENCY: National Science Foundation.

ACTION: Submission for OMB Review; Comment Request.

SUMMARY: Under the Paperwork Reduction Act of 1995, Pub. L. 104-13 (44 U.S.C. 3501 et seq.), and as part of its continuing effort to reduce paperwork and respondent burden, the National Science Foundation (NSF) is inviting the general public and other Federal agencies to comment on this proposed continuing information collection. This is the second notice for public comment; the first was published in the Federal Register at 68 FR 37866 and no comments were received. NSF is forwarding the proposed submission to the Office of Management and Budget (OMB) for clearance simultaneously with the publication of this second notice.

DATES: Comments regarding these information collections are best assured of having their full effect if received by OMB within 30 days of publication in the Federal Register.

ADDRESSES: Written comments regarding (a) Whether the collection of information is necessary for the proper performance of the functions of NSF, including whether the information will have practical utility; (b) the accuracy of NSF's estimate of burden including the validity of the methodology and assumptions used; (c) ways to enhance the quality, utility and clarity of the information to be collected; or (d) ways to minimize the burden of the collection of information on those who are to respond, including through the use of appropriate automated, electronic, mechanical, or other technological collection techniques or other forms of information technology should be addressed to: Office of Information and Regulatory Affairs of OMB, Attention: Desk Officer for National Science Foundation, 725 17th Street, NW., Room 10235, Washington, DC 20503, and to Suzanne H. Plimpton, Reports Clearance Officer, National Science Foundation, 4201 Wilson Boulevard, Suite 295, Arlington, Virginia 22230 or send email to splimpto@nsf.gov. Copies of the submission may be obtained by callling (703) 292-7556.

FOR FURTHER INFORMATION CONTACT: Suzanne H. Plimpton, NSF Reports Clearance Officer at (703) 292-7556 or send e-mail to splimpto@nsf.gov.

An agency may not conduct or sponsor a collection of information unless the collection of information displays a currently valid OMB control number and the agency informs potential persons who are to respond to the collection of information that such persons are not required to respond to the collection of information unless it displays a currently valid OMB control number.

SUPPLEMENTARY INFORMATION: Title of Collection: Generic Clearance of the Science Resources Statistics Survey Improvement Projects.

OMB Control No.: 3145-0174.

Abstract: The National Science Foundation's (NSF) Division of Science Resources Statistics (SRS) needs to collect timely data on constant changes in the science and technology sector and to provide the most complete and accurate information possible to policy makers in Congress and throughout government and academia. NSF/SRS conducts many surveys to obtain the data for these purposes. The Generic Clearance will be used to ensure that the highest quality data is obtained from these surveys. State-of-the-art methodology will be used to develop, evaluate, and test questionnaires as well as to improve survey methodology. This may include field or pilot tests of questions for future large-scale surveys, as needed.

Expected Respondents. The respondents will be from industry, academia, nonprofit organizations, members of the public, and Federal agencies. Respondents will be either individuals or institutions, depending upon the survey under investigation. Qualitative procedures will generally be conducted in person, but quantitative procedures may be conducted using the same mode as the survey under investigation. Up to 8,020 respondents will be contacted across all survey improvement projects. No respondent will be contacted more than twice in one year under this generic clearance. Every effort will be made to use technology to limit the burden on respondents from small entities.

Both qualitative and quantitative methods will be used to improve NSF's current data collection instruments and processes and to reduce respondent burden, as well as to develop new surveys. Qualitative methods include, but are not limited to, expert review; exploratory, cognitive, and usability interviews; focus groups; and respondent debriefings. Cognitive and usability interviews may include the use of scenarios, paraphrasing, card sorts, vignette classifications, and rating tasks. Quantitative methods include, but are not limited to, behavior coding, split panel tests, and field tests.

Information being collected is not considered sensitive. In general, assurances of data confidentiality will not be provided to respondents in the pretests. Instead, respondents have the option of requesting that any and all data they provide be kept confidential.

Use of the Information. The purpose of these studies is to use the latest and most appropriate methodology to improve NSF surveys. The data will be used internally to improve NSF surveys. Methodological findings may be presented externally in technical papers at conferences, published in the proceedings of conferences, or in journals. Improved NSF surveys will help policy makers in decisions on research and development funding, graduate education, scientific and technical workforce, regulations, and reporting guidelines, as well as contributing to reduced survey costs.

Burden on the Public. NSF estimates that a total reporting and recordkeeping burden of 11,200 hours will result from pretesting to improve its surveys. The calculation is:

Table 1.—Anticipated Surveys To Undertake Improvement Projects, Along With the Number of Respondents and Burden Hours Per Survey
Survey name | Number of respondents¹ | Hours
Graduate Student Survey | ² 15,500 | 31,500
Sestat Surveys | 5,000 | 5,000
New Postdoc Survey | 800 | 1,000
New and Redesigned R&D Surveys:
Academic R&D | 600 | 600
Government R&D | 50 | 50
Nonprofit R&D | 200 | 100
Industry R&D | 500 | 1,000
Survey of Scientific & Engineering Facilities | 300 | 150
Instrumentation | 150 | 300
Public Understanding of S&E Surveys | 200 | 50
Scientific Publications | 120 | 250
Additional surveys not specified | 400 | 1,200
Total | 23,820 | 41,200
Graduate Student Survey | 500 | 1,500
Sestat Surveys | 5,000 | 5,000
New Postdoc Survey | 800 | 1,000
New and Redesigned R&D Surveys:
Academic R&D | 600 | 600
Government R&D | 50 | 50
Nonprofit R&D | 200 | 100
Industry R&D | 500 | 1,000
Survey of Scientific & Engineering Facilities | 300 | 150
Instrumentation | 150 | 300
Public Understanding of S&E Surveys | 200 | 50
Scientific Publications | 120 | 250
Additional surveys not specified | 400 | 1,200
Total | 8,820 | 11,200
¹ Number of respondents listed for any individual survey may represent several methodological improvement projects.
² This number refers to the science and engineering departments within the academic institutions of the United States (not the academic institutions themselves). This number is large enough to accommodate a split panel test of this survey.

Comments submitted in response to this notice will be summarized and/or included in the request for OMB approval of this information collection; they also will become a matter of public record.

Dated: November 5, 2003.
Suzanne Plimpton,
Reports Clearance Officer, National Science Foundation.

[FR Doc. 03-28276 Filed 11-10-03; 8:45 am]

BILLING CODE 7555-01-M